DEPARTMENT OF TRANSPORTATION

Federal Aviation Administration

14 CFR Part 39

[Docket No. 2000-SW-13-AD; Amendment 39-12132; AD 2001-04-13]

RIN 2120-AA64

Airworthiness Directives; Eurocopter France Model SA.315B, SA.316B, SA.316C, SE.3160, and SA.319B Helicopters

AGENCY: Federal Aviation Administration, DOT.

ACTION: Final rule.

SUMMARY: This amendment supersedes an existing airworthiness directive (AD) for Eurocopter France (ECF) Model SA.315B, SA.316B, SA.316C, SE.3160, and SA.319B helicopters. That AD requires initial and recurring inspections of the main rotor blade (blade) spar for cracks. This amendment requires initial and recurring dye penetrant or eddy current inspections for a cracked blade spar at 100-hour time-in-service (TIS) intervals or 600 cycles, whichever occurs first, rather than the 25-hour TIS intervals currently required. This amendment is prompted by an accident in which an ECF Model SA.315B helicopter blade failed due to fatigue cracking. The actions specified by this AD are intended to prevent separation of a blade and subsequent loss of control of the helicopter.

DATES: Effective April 16, 2001.

The incorporation by reference of certain publications listed in the regulations is approved by the Director of the Federal Register as of April 16, 2001.

ADDRESSES: The service information referenced in this AD may be obtained from American Eurocopter Corporation, 2701 Forum Drive, Grand Prairie, Texas 75053-4005, telephone (972) 641-3460, fax (972) 641-3527. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Jim Grigg, Aviation Safety Engineer, FAA, Rotorcraft Directorate, Regulations Group, Fort Worth, Texas 76193-0111, telephone (817) 222-5490, fax (817) 222-5961.

SUPPLEMENTARY INFORMATION: A proposal to amend part 39 of the Federal Aviation Regulations (14 CFR part 39) by superseding AD 98-10-09, Amendment 39-10725 (63 FR 46160, August 31, 1998), which applies to ECF Model SA.315B, SA.316B, SA.316C, SE.3160, and SA.319B helicopters, was published in the Federal Register on December 1, 2000 (65 FR 75198). That action proposed to require, within 25 hours TIS and thereafter at intervals not to exceed 100 hours TIS or 600 cycles, whichever occurs first, inspecting each blade spar for a crack, using dye penetrant or eddy current, and inspecting each blade cuff to ensure an adequate sealant bead. A “cycle” is any landing, regardless of whether the main rotor rotation is continued or stopped, or any completion of an external load operation; e.g. load release. If a crack is found, the proposed AD would require replacing the blade with an airworthy blade before further flight.

Interested persons have been afforded an opportunity to participate in the making of this amendment. No comments were received on the proposal or the FAA's determination of the cost to the public. The FAA has determined that air safety and the public interest require the adoption of the rule as proposed but with one minor editorial change. Notes 4 and 5 in the proposal should have been Notes 3 and 4 respectively, and this AD corrects that error. The FAA has determined that this change will neither increase the economic burden on an operator nor increase the scope of the AD.

The FAA estimates that 93 helicopters of U.S. registry will be affected by this AD, that it would take approximately 4 hours to inspect and 4 hours to replace a blade, if necessary, and that the average labor rate is $60 per work hour. Based on these figures, the total cost impact of this AD on U.S. operators is estimated to be $66,960, assuming three inspections per year and no blade replacement.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-10725 (63 FR 46160), and by adding a new airworthiness directive (AD), Amendment 39-12132, to read as follows:

2001-04-13 Eurocopter France: Amendment 39-12132. Docket No. 2000-SW-13-AD. Supersedes AD 98-10-09, Amendment 39-10725, Docket No. 98-SW-23-AD.

Applicability: Model SA.315B, SA.316B, SA.316C, SE.3160, and SA.319B helicopters with a main rotor blade (blade), with any of the following part numbers (P/N): 3160S11-10000 all dash numbers, 3160S11-30000 all dash numbers, 3160S11-35000 all dash numbers, 3160S11-40000 all dash numbers, 3160S11-45000 all dash numbers, 3160S11-50000 all dash numbers, or 3160S11-55000 all dash numbers, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (b) of this AD. The request should include an assessment of the effect of the modification, alteration, or repair on the unsafe condition addressed by this AD; and if the unsafe condition has not been eliminated, the request should include specific proposed actions to address it.

Compliance: Required as indicated, unless accomplished previously.

To prevent a blade separation and subsequent loss of control of the helicopter, accomplish the following:

(a) Within 25 hours time-in-service (TIS) or before the next flight following the onset of any one-per-rev vibration, whichever occurs first, and thereafter at intervals not to exceed 100 hours TIS or 600 “cycles” (a “cycle” is any landing, regardless of whether the main rotor rotation is continued or stopped, or any completion of an external load operation; e.g., load release), whichever occurs first,

(1) Inspect each blade spar for a crack.

(i) Without removing the blade from the helicopter, clean each blade root area using “Teepol” or an equivalent product.

(ii) Support the blade tip to eliminate blade droop while inspecting the lower blade surface.

(iii) By either a dye penetrant or eddy current method, inspect each blade along the hatched area indicated in Figure 1, beginning on the blade lower surface, then on the flat section of the trailing edge (B), on the blade upper surface, and then on the flat section of the leading edge (A).

Note 2: Eurocopter France Service Bulletins (SB) SA 315 No. 05.39 and SA 316/319 No. 05.98, dated November 12, 1999, pertain to the subject of this AD.

(iv) If a crack is found, replace the blade with an airworthy blade before further flight.

BILLING CODE 4910-13-P

BILLING CODE 4910-13-C

(2) Ensure that there is a sealant bead (1) around the edge of each blade cuff. If no sealant bead exists or if a sealant bead shows excessive wear, before further flight, apply a sealant bead in accordance with paragraph 2.2 of the Accomplishment Instructions of Eurocopter France SB 65.137 R1, dated November 17, 1993.

(b) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 3: Information concerning the existence of approved alternative methods of compliance with this AD, if any, may be obtained from the Regulations Group.

(c) Special flight permits will not be issued.

(d) The modification shall be done in accordance with paragraph 2.2 of the Accomplishment Instructions of Eurocopter France SB 65.137 R1, dated November 17, 1993. This incorporation by reference was approved by the Director of the Federal Register in accordance with 5 U.S.C. 552(a) and 1 CFR part 51. Copies may be obtained from American Eurocopter Corporation, 2701 Forum Drive, Grand Prairie, Texas 75053-4005, telephone (972) 641-3460, fax (972) 641-3527. Copies may be inspected at the FAA, Office of the Regional Counsel, Southwest Region, 2601 Meacham Blvd., Room 663, Fort Worth, Texas; or at the Office of the Federal Register, 800 North Capitol Street, NW., suite 700, Washington, DC.

(e) This amendment becomes effective on April 16, 2001.

Note 4: The subject of this AD is addressed in Direction Generale De L'Aviation Civile (France) AD 1998-171-039(A)R2 and 1998-170-056(A)R2, both dated January 12, 2000.

Issued in Fort Worth, Texas, on February 20, 2001.
Eric Bries,
Acting Manager, Rotorcraft Directorate, Aircraft Certification Service.

[FR Doc. 01-5164 Filed 3-9-01; 8:45 am]

BILLING CODE 4910-13-P